ENVIRONMENTAL PROTECTION AGENCY

40 CFR Part 93

[FRL-7789-6]

RIN 2060-AL73

RIN 2060-AI56

Transportation Conformity Rule Amendments for the New 8-Hour Ozone and PM2.5 National Ambient Air Quality Standards and Miscellaneous Revisions for Existing Areas; Transportation Conformity Rule Amendments: Response to Court Decision and Additional Rule Changes; Correction to the Preamble

AGENCY: Environmental Protection Agency (EPA).

ACTION: Final rule; correction.

SUMMARY: EPA issued a final rule on July 1, 2004 (69 FR 40004) that amended the transportation conformity rule to include criteria and procedures for the new 8-hour ozone and fine particulate matter (PM2.5) national ambient air quality standards (NAAQS or “standards”). The final rule also addressed a March 2, 1999 ruling by the U.S. Court of Appeals for the District of Columbia Circuit (Environmental Defense Fund v. EPA, et al., 167 F. 3d 641, D.C. Cir. 1999). The preamble to the final rule contains two errors. This notice is intended to correct these errors. All other preamble and regulatory text printed in the July 1, 2004 final rule is correct.

The Department of Transportation (DOT) is EPA's federal partner in implementing the transportation conformity regulation. We have consulted with DOT on the development of these corrections, and DOT concurs.

DATES: Effective Date: August 2, 2004.

FOR FURTHER INFORMATION CONTACT: Meg Patulski, State Measures and Conformity Group, Transportation and Regional Programs Division, U.S. Environmental Protection Agency, 2000 Traverwood Road, Ann Arbor, MI 48105, patulski.meg@epa.gov, (734) 214-4842; Rudy Kapichak, State Measures and Conformity Group, Transportation and Regional Programs Division, U.S. Environmental Protection Agency, 2000 Traverwood Road, Ann Arbor, MI 48105, kapichak.rudolph@epa.gov, (734) 214-4574; or Laura Berry, State Measures and Conformity Group, Transportation and Regional Programs Division, U.S. Environmental Protection Agency, 2000 Traverwood Road, Ann Arbor, MI 48105, berry.laura@epa.gov, (734) 214-4858.

SUPPLEMENTARY INFORMATION: EPA issued a final rule on July 1, 2004 (69 FR 40004) that amended the transportation conformity rule to include criteria and procedures for the new 8-hour ozone and fine particulate matter (PM2.5) national ambient air quality standards (NAAQS or “standards”). The final rule also addressed a March 2, 1999 ruling by the U.S. Court of Appeals for the District of Columbia Circuit (Environmental Defense Fund v. EPA, et al., 167 F. 3d 641, D.C. Cir. 1999). The preamble to the July 1, 2004 final rule contains two errors. This notice is intended to correct these errors.

First, the table in Section II. D. What Parts of the Final Rule Apply to Me? (69 FR 40006-7), which lists the issues addressed in the final rule, is incomplete and contains a number of incorrect references to other sections of the rule. The table provides a roadmap for determining whether a specific final rule revision included in the July 1, 2004 rulemaking would apply in your area. The table illustrates which parts of the final rule are relevant for various pollutants and standards.

The following is the corrected table:

¹ “Subpart 1 areas” are areas that are designated nonattainment under subpart 1 of part D of title 1 of the Clean Air Act. EPA also referred to these areas as “basic” nonattainment areas in its April 30, 2004 final designations rule for the 8-hour ozone standard (69 FR 23862).

Type of area | Issue addressed in final rule | Preamble section | Regulatory section
8-hour ozone | Conformity grace period | III.A | § 93.102(d)
| Revocation of 1-hour ozone standard | III.B | Not applicable.
| General implementation of new standards | III.C | Not applicable.
| Early Action Compacts | III.D | Not applicable.
| Baseline year test | IV.B | § 93.119(b)
| Build/no-build test (marginal classification and subpart 1 areas ¹) | IV.C | § 93.119(b)(2), § 93.119(g)(2)
| Regional conformity tests (moderate and above classifications) | IV.D | § 93.119(b)(1)
| Regional conformity tests (areas without 1-hour ozone budgets) | V | § 93.109(d)
| Regional conformity tests (areas with 1-hour ozone budgets) | VI | § 93.109(e)
| Federal projects during a lapse | XIV | § 93.102(c), § 93.104(d)
| Adequacy process of submitted SIPs | XV XXIII.G | § 93.118(e) § 93.118(f)
| Non-federal projects during a lapse | XVI | § 93.121(a)
| Consequences of SIP disapprovals | XVII | § 93.120(a)(2)
| Safety margins | XVIII | Deletes § 93.124(b) of previous rule.
| Frequency | XIX | § 93.104(c), § 93.104(e)
| Latest planning assumptions | XX | § 93.110(a)
| Relying on a previous analysis | XXII | § 93.122(g), § 93.104(b), § 93.104(c)
| Definitions | XXIII.A | § 93.101
| Insignificance | XXIII.B | § 93.109(k), § 93.121(c)
| Transportation plan and modeling requirements (moderate and above classifications) | XXIII.D | § 93.106(b), § 93.122(c)
| Non-federal projects (for isolated rural areas only) | XXIII.F | § 93.121(b)(1)
| Implementation of budget test | XXIII.H XXIII.I | § 93.118(b) § 93.118(d)
| Exempt projects | XXIII.J | § 93.126
| Conformity SIPs | XXV | Not applicable.
PM2.5 | Applicability | III.A | § 93.102(b)(1)
| Conformity grace period | III.A | § 93.102(d)
| General implementation of new standards | III.C | Not applicable.
| Baseline year test | IV.B | § 93.119(e)
| Build/no-build test | IV.C | § 93.119(e), § 93.119(g)(2)
| Regional conformity tests | VII | § 93.109(i)
| Direct PM2.5 in regional analyses from tailpipe, brake wear, tire wear | VIII | § 93.102(b)(1)
| Precursors in regional analyses | VIII | No regulatory text being finalized at this time.
| Re-entrained road dust in regional analyses | IX | § 93.102(b)(3), § 93.119(f)
| Construction-related fugitive dust in regional analyses | X | § 93.122(f)
| Compliance with SIP control measures | XI | § 93.117
| Hot-spots | XII | No regulatory text being finalized at this time.
| Federal projects during a lapse | XIV | § 93.102(c), § 93.104(d)
| Adequacy process of submitted SIPs | XV XXIII.G | § 93.118(e) § 93.118(f)
| Non-federal projects during a lapse | XVI | § 93.121(a)
| Consequences of SIP disapprovals | XVII | § 93.120(a)(2)
| Safety margins | XVIII | Deletes § 93.124(b) of previous rule.
| Frequency | XIX | § 93.104(c), § 93.104(e)
| Latest planning assumptions | XX | § 93.110(a)
| Relying on a previous analysis | XXII | § 93.122(g), § 93.104(b), § 93.104(c)
| Definitions | XXIII.A | § 93.101
| Insignificance | XXIII.B | § 93.109(k), § 93.121(c)
| Non-federal projects (for isolated rural areas only) | XXIII.F | § 93.121(b)(1)
| Implementation of budget test | XXIII.H XXIII.I | § 93.118(b) § 93.118(d)
| Exempt projects | XXIII.J | § 93.126
| Conformity SIPs | XXV | Not applicable.
1-hour ozone | Revocation of 1-hour ozone standard | III.B | Not applicable.
| Regional conformity tests | III.B | § 93.109(c)
| Build/no-build test (marginal and below classifications) | IV.C | § 93.119(b)(2), § 93.119(g)(2)
| Regional conformity tests (moderate and above classifications) | IV.D | § 93.119(b)(1)
| Federal projects during a lapse | XIV | § 93.102(c), § 93.104(d)
| Adequacy process of submitted SIPs | XV XXIII.G | § 93.118(e) § 93.118(f)
| Non-federal projects during a lapse | XVI | § 93.121(a)
| Consequences of SIP disapprovals | XVII | § 93.120(a)(2)
| Safety margins | XVIII | Deletes § 93.124(b) of previous rule.
| Frequency | XIX | § 93.104(c), § 93.104(e)
| Latest planning assumptions | XX | § 93.110(a)
| Relying on a previous analysis | XXII | § 93.122(g), § 93.104(b), § 93.104(c)
| Definitions | XXIII.A | § 93.101
| Insignificance | XXIII.B | § 93.109(k), § 93.121(c)
| Limited maintenance plans | XXIII.C | § 93.101 § 93.109(j), § 93.121(c)
| Transportation plan and modeling requirements (moderate and above classifications) | XXIII.D | § 93.106(b), § 93.122(c)
| Non-federal projects (for isolated rural areas only) | XXIII.F | § 93.121(b)(1)
| Implementation of budget test | XXIII.H XXIII.I | § 93.118(b) § 93.118(d)
| Exempt projects | XXIII.J | § 93.126
| Conformity SIPs | XXV | Not applicable.
PM10 | Build/no-build test | IV.C | § 93.119(d), § 93.119(g)(2)
| Hot-spots | XIII | No new or revised regulatory text being finalized at this time.
| Federal projects during a lapse | XIV | § 93.102(c), § 93.104(d)
| Adequacy process of submitted SIPs | XV XXIII.G | § 93.118(e) § 93.118(f)
| Non-federal projects during a lapse | XVI | § 93.121(a)
| Consequences of SIP disapprovals | XVII | § 93.120(a)(2)
| Safety margins | XVIII | Deletes § 93.124(b) of previous rule.
| Frequency | XIX | § 93.104(c), § 93.104(e)
| Latest planning assumptions | XX | § 93.110(a)
| Horizon years in hot-spot analyses | XXI | § 93.116
| Relying on a previous analysis | XXII | § 93.122(g), § 93.104(b), § 93.104(c)
| Definitions | XXIII.A | § 93.101
| Insignificance | XXIII.B | § 93.109(k), § 93.121(c)
| Limited maintenance plans | XXIII.C | § 93.101, § 93.109(j), § 93.121(c)
| Clarification to Precursors | XXIII.E | § 93.102(b)(2)(iii), § 93.119(f)(5)
| Non-federal projects (for isolated rural areas only) | XXIII.F | § 93.121(b)(1)
| Implementation of budget test | XXIII.H XXIII.I | § 93.118(b) § 93.118(d)
| Exempt projects | XXIII.J | § 93.126
| Conformity SIPs | XXV | Not applicable.
CO | Build/no-build test (lower CO classifications) | IV.C | § 93.119(c), § 93.119(g)(2)
| Regional conformity tests (higher CO classifications) | IV.D | § 93.119(c)(1)
| Federal projects during a lapse | XIV | § 93.102(c), § 93.104(d)
| Adequacy process of submitted SIPs | XV XXIII.G | § 93.118(e) § 93.118(f)
| Non-federal projects during a lapse | XVI | § 93.121(a)
| Consequences of SIP disapprovals | XVII | § 93.120(a)(2)
| Safety margins | XVIII | Deletes § 93.124(b) of previous rule.
| Frequency | XIX | § 93.104(c), § 93.104(e)
| Latest planning assumptions | XX | § 93.110(a)
| Horizon years in hot-spot analyses | XXI | § 93.116
| Relying on a previous analysis | XXII | § 93.122(g), § 93.104(b), § 93.104(c)
| Definitions | XXIII.A | § 93.101
| Insignificance | XXIII.B | § 93.109(k), § 93.121(c)
| Limited maintenance plans | XXIII.C | § 93.101, § 93.109(j), § 93.121(c)
| Transportation plan and modeling requirements (moderate and serious classificatons) | XXIII.D | § 93.106(b), § 93.122(c)
| Non-federal projects (for isolated rural areas only) | XXIII.F | § 93.121(b)(1)
| Implementation of budget test | XXIII.H XXIII.I | § 93.118(b), § 93.118(d)
| Exempt projects | XXIII.J | § 93.126
| Conformity SIPs | XXV | Not applicable.
NO2 | Build/no-build test | IV.C | § 93.119(d), § 93.119(g)(2)
| Federal projects during a lapse | XIV | § 93.102(c), § 93.104(d)
| Adequacy process of submitted SIPs | XV XXIII.G | § 93.118(e) § 93.118(f)
| Non-federal projects during a lapse | XVI | § 93.121(a)
| Consequences of SIP disapprovals | XVII | § 93.120(a)(2)
| Safety margins | XVIII | Deletes § 93.124(b) of previous rule.
| Frequency | XIX | § 93.104(c), § 93.104(e)
| Latest planning assumptions | XX | § 93.110(a)
| Relying on a previous analysis | XXII | § 93.122(g), § 93.104(b), § 93.104(c)
| Definitions | XXIII.A | § 93.101
| Insignificance | XXIII.B | § 93.109(k), § 93.121(c)
| Non-federal projects (for isolated rural areas only) | XXIII.F | § 93.121(b)(1)
| Implementation of budget test | XXIII.H XXIII.I | § 93.118(b) § 93.118(d)
| Exempt projects | XXIII.J | § 93.126
| Conformity SIPs | XXV | Not applicable.

Second, a paragraph was omitted from the end of Section XXIII.G. Use of Adequate and Approved Budgets in Conformity (69 FR 40066). The missing paragraph was intended to explain that we are not changing all of the PM10 requirements in § 93.109(g). We are reprinting the entire paragraph in the regulatory section of the July 1, 2004 final rule to ensure that the Code of Federal Regulations is updated correctly.

The following paragraph should be inserted at the end of Section XXIII.G.:

The final rule includes some of the existing conformity rule's text for PM10 requirements in § 93.109(g) to ensure that the Code of Federal Regulations is updated correctly. For example, § 93.109(g)(3)(ii) is not being changed in this final rule, but is affected by the reorganization of paragraph (g) in this section. EPA notes that this and other such parts of paragraph (g) have been addressed through past rulemakings and are not being reopened through this final rule.

No changes are being made to the final rule language or other preamble language published on July 1, 2004. EPA finds good cause to make this correction notice effective less than 30 days after publication in the Federal Register. The final rule published July 1 will become effective August 2, 2004. Today's correction notice does not make any changes to the final rule. This correction notice only clarifies explanatory text in the preamble to the final rule which were intended to aid conformity implementors in implementing the rule. Therefore EPA concludes that it will be in the public interest to have this correction notice also become effective on August 2, 2004.

Authority: 42 U.S.C. 7401-7671q.

Dated: July 13, 2004.
Robert D. Brenner,
Acting Assistant Administrator for Office of Air and Radiation.

[FR Doc. 04-16449 Filed 7-19-04; 8:45 am]

BILLING CODE 6560-50-P